POSTAL SERVICE

39 CFR Part 20

Express Mail International Service

AGENCY: Postal Service.

ACTION: Interim rule.

SUMMARY: Pursuant to its authority under 39 U.S.C. 407, the Postal Service will offer a 5 percent discount off of regular postage for all Express Mail International Service (EMS) shipments paid for by an Express Mail Corporate Account (EMCA) or made by federal agencies using the federal financial system. The discount would apply only to the basic postage portion of EMS published rates. It would not apply to pick-up service charges, additional merchandise insurance coverage fees, or shipments made under an International Customized Mail agreement.

DATES: Effective: August 12, 2000. Comments on the interim rule must be received on or before September 6, 2000.

ADDRESSES: Written comments should be sent to the Manager, International Products, International Business, U.S. Postal Service, 475 L'Enfant Plaza SW, Room 370-IBU, Washington DC 20260-6500. Copies of all written comments will be available for public inspection between 9 a.m. and 4 p.m., Monday through Friday, in International Business, 10th Floor, 901 D Street SW, Washington DC 20260-6500.

FOR FURTHER INFORMATION CONTACT: Angus MacInnes, (202) 268-2268.

SUPPLEMENTARY INFORMATION: The Postal Service is changing conditions for certain mailing categories to automatically reduce every payment transaction by 5 percent for all EMS purchased at basic published prices and paid through an EMCA.

An EMCA is an advance deposit account developed for Express Mail, which enables customers to deposit funds with the Postal Service for payment of anticipated future Express Mail mailings. Express Mail Corporate Accounts can be used for domestic and international Express Mail. The discount will be available only for Express Mail sent internationally. Federal agencies will also be eligible for the discount. The discount will be deducted from the total postage amount on the mailer's monthly account rather than from each piece.

The 5 percent discount will be offered on postage only; it does not apply to pickup fees, any special fees, nor postage for shipments being made under an International Customized Mail agreement.

As required under the Postal Reorganization Act, these changes will result in conditions of mailing that do not apportion the costs of the service, so the overall value of the service to users is fair and reasonable, and not unduly or unreasonably discriminatory or preferential.

List of Subjects in 39 CFR Part 20

Foreign relations, international postal services.

PART 20—[AMENDED]

1. The authority citation for 39 CFR Part 20 continues to read as follows:

Authority: 5 U.S.C. 552(a); 39 U.S.C. 401, 404, 407, 408.

2. Amend the International Mail Manual by revising section 2 to read as follows:

2 CONDITIONS FOR MAILING

210 Express Mail International Service

* * * * *

212 Postage

212.1 Rates

212.11 Country Rates

See the Individual Country Listings for countries that offer Express Mail International Service.

212.12 Express Mail Corporate Account Discount Rates

Express Mail International Service (EMS) rates will be reduced by 5 percent for all payments made through an Express Mail Corporate Account (EMCA) or through the federal agency payment system. The discount applies only to the postage portion of EMS rates. It does not apply to pickup service charges (212.24), additional merchandise insurance coverage fees (211.51), or shipments made under an International Customized Mail agreement.

* * * * *

Stanley F. Mires,
Chief Counsel, Legislative.

[FR Doc. 00-19393 Filed 8-4-00; 8:45 am]

BILLING CODE 7710-12-P